DEPARTMENT OF JUSTICE

Notice of Lodging of Proposed Consent Decree Under the Comprehensive Environmental Response, Compensation and Liability Act

On October 9, 2012, the Department of Justice lodged a proposed Consent Decree with the United States District Court for the Eastern District of Wisconsin in the lawsuit entitled United States v. Mercury Marine, Civil Action No. 2:12-cv-1022.

The United States filed this lawsuit under the Comprehensive Environmental Response, Compensation, and Liability Act (CERCLA). The complaint seeks injunctive relief and payment of past and future costs that the United States incurred and will incur responding to releases of hazardous substances at the Cedarville Dams (a/k/a Cedar Creek) Superfund Site in Cedarburg, Wisconsin. In the proposed Consent Decree, the defendant agrees to pay the United States' past and future response costs and to perform the selected remedy for the Operable Unit 1, which addresses contamination at Mercury Marine's former Plant 2 at 2526 St. John Avenue in Cedarburg, Wisconsin. In return, the United States agrees not to sue the defendant under sections 106 and 107 of CERCLA.

The publication of this notice opens a period for public comment on the proposed Consent Decree. Comments should be addressed to the Assistant Attorney General, Environment and Natural Resources Division, and should refer to United States v. Mercury Marine, D.J. Ref. No. 90-11-3-10575. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $11.75 (25 cents per page reproduction cost) payable to the United States Treasury.

Maureen M. Katz,
Assistant Section Chief, Environmental Enforcement Section, Environment and Natural Resources Division.

[FR Doc. 2012-25139 Filed 10-12-12; 8:45 am]

BILLING CODE 4410-15-P